FEDERAL RESERVE SYSTEM

Change in Bank Control Notices; Acquisitions of Shares of a Bank or Bank Holding Company

The notificant listed below has applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 1, 2017.

Federal Reserve Bank of Dallas (Robert L. Triplett III, Senior Vice President) 2200 North Pearl Street, Dallas, Texas 75201-2272:

The George V. and Nora J. Deaton Living Trust, Paducah, Texas; for George V. Deaton and Russell Edward Deaton, both of Paducah, Texas; as co-trustees and as members of the Deaton Family Group, to retain voting shares of First Paducah Bancshares of Texas, Inc., and thereby indirectly, The First National Bank of Paducah, all of Paducah, Texas.

Board of Governors of the Federal Reserve System, February 9, 2017.
Yao Chin Chao,
Assistant Secretary of the Board.

[FR Doc. 2017-02971 Filed 2-14-17; 8:45 am]

BILLING CODE 6210-01-P